DEPARTMENT OF VETERANS AFFAIRS

[OMB Control No. 2900-0662]

Agency Information Collection Activity: Civil Rights Discrimination Complaint

AGENCY: Office of the Secretary, Department of Veterans Affairs.

ACTION: Notice.

SUMMARY: Office of the Secretary, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before January 20, 2026.

ADDRESSES: Comments must be submitted through www.regulations.gov.

FOR FURTHER INFORMATION CONTACT: Office of the Secretary, Department of Veterans Affairs, 810 Vermont Avenue NW, Washington, DC 20420 or email to Sterling.Akins@va.gov

Program-Specific information: Denise P. DeShields, 202-461-7840, Denise.DeShields@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, Office of Secretary invites comments on: (1) whether the proposed collection of information is necessary for the proper performance of Office of Secretary's functions, including whether the information will have practical utility; (2) the accuracy of Office of Secretary's estimate of the burden of the proposed collection of information; (3) ways to enhance the quality, utility, and clarity of the information to be collected; and (4) ways to minimize the burden of the collection of information on respondents, including through the use of automated collection techniques or the use of other forms of information technology.

Title: Civil Rights Discrimination Complaint, VA Form 08-0381.

OMB Control Number: 2900-0662. https://www.reginfo.gov/public/do/PRASearch (Once at this link, you can enter the OMB Control Number to find the historical versions of this Information Collection).

Type of Review: Revision of a currently approved collection.

Abstract: Veterans and other customers who believe that civil rights were violated by agency employees while receiving medical care or services in VA medical centers or institutions such as state home receiving federal financial assistance from VA, complete VA Form 08-0381 to file a formal complaint of the alleged discrimination.

Affected Public: Individuals and households.

Estimated Annual Burden: 113 hours.

Estimated Average Burden per Respondent: 15 minutes.

Frequency of Response: On occasion.

Estimated Number of Respondents: 450.

Authority: 44 U.S.C. 3501 et seq.

Dorothy Glasgow,
Acting, VA PRA Clearance Officer, Office of Information Technology, Data Governance and Analytics, Department of Veterans Affairs.

[FR Doc. 2025-20644 Filed 11-20-25; 8:45 am]

BILLING CODE 8320-01-P